DEPARTMENT OF TRANSPORTATION

Federal Railroad Administration

Petition for Waiver of Compliance

In accordance with Part 211 of Title 49 of the Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

City of Placentia, California,

[Docket Number FRA-2006-24654]

The City of Placentia, California (City) and BNSF Railway Company (BNSF) have petitioned for an extension to the waiver granted on June 21, 2006 in FRA Docket No. FRA-2006-24654. In the June 21, 2006 waiver, FRA agreed to extend the original deadline of June 24, 2006 set forth in 49 CFR 222.42 for continuation of an intermediate partial quiet zone until September 22, 2006. In this current request, the City and BNSF state that they are working towards establishment of a 24-hour new quiet zone, but they will be unable to meet the September 22, 2006 deadline due to technical problems with the radio communications system, the need to conduct a 30-day test period of the radio communications system before exit gate installation, and the need to install advance warning signs before the 24-hour new quiet zone takes effect. The City and BNSF seek to retain the current partial quiet zone in order to avoid disruption and confusion in the interim and state that safety will not be compromised.

Interested parties are invited to participate in these proceedings by submitting written views, data or comments. Each comment shall specifically set forth the basis upon which it is made and contain a concise statement of the interest of the commenter in the proceeding. FRA does not anticipate the need to schedule a public hearing in connection with this proceeding since the facts do not appear to warrant a hearing. If any interested party desires an opportunity to comment, they should notify FRA in writing within 15 days of the date of publication of this notice and specify the basis for their request.

All communications concerning these proceedings should identify the docket number set forth above and must be submitted to the Docket Clerk, DOT Docket Management Facility, Room PL-401 (Plaza Level), 400 7th Street, SW., Washington, DC 20590. Communications received within 30 days of the date of this notice will be considered by FRA before final action is taken. Comments received after that date will be considered as far as practicable. FRA reserves the right to grant temporary relief to avoid lapse of the existing partial quiet zone while the comment period is open, after consideration of any comments filed prior to the initial date of decision. All written communications concerning this proceeding are available for examination during regular business hours (9 a.m.-5 p.m.) at the above facility. All documents in the public docket are available for inspection and copying on the Internet at the docket facility's Web site: http://dms.dot.gov.

Anyone is able to search the electronic form of all comments received into any of our dockets by the name of the individual submitting the comment (or signing the comment, if submitted on behalf of an association, business, labor union, etc.). You may review the Department of Transportation's complete Privacy Act Statement, which was published in the Federal Register on April 11, 2000 (Volume 65, Number 70; Pages 19477-78). The Privacy Act Statement may also be found at http://dms.dot.gov.

Issued in Washington, DC on August 22, 2006.
Grady C. Cothen, Jr.,
Deputy Associate Administrator for Safety Standards and Program Development.

[FR Doc. E6-14112 Filed 8-24-06; 8:45 am]

BILLING CODE 4910-06-P